DEPARTMENT OF DEFENSE

Office of the Secretary

[Docket ID DoD-2022-OS-0015]

Privacy Act of 1974; System of Records

AGENCY: Defense Media Activity, Department of Defense (DoD).

ACTION: Notice of a modified system of records notice.

SUMMARY: In accordance with the Privacy Act of 1974, the DoD is modifying the system of records entitled, AFNConnect (AFNC) and AFN Now, DPA 02. The American Forces Network (AFN) services consists of two web-based automated information systems. The systems are used to document the eligibility and continued validation of authorized individuals who register an AFN-capable satellite decoder and/or access AFN Over the Top (OTT) Live Streaming and Video on Demand (VOD) Services via the AFNC and AFN Now applications. The AFN provides U.S. military commanders worldwide with a means to communicate internal information to DoD and other Federal agency audiences stationed outside of the United States, its territories or possessions. Records may also be used as a management tool for statistical analysis, tracking, reporting, and evaluating program effectiveness.

DATES: This system of records is effective upon publication; however, comments on the Routine Uses will be accepted on or before February 28, 2022. The Routine Uses are effective at the close of the comment period.

ADDRESSES: You may submit comments, identified by docket number and title, by any of the following methods:

* Federal Rulemaking Portal: https://www.regulations.gov.

Follow the instructions for submitting comments.

* Mail: DoD cannot receive written comments at this time due to the COVID-19 pandemic. Comments should be sent electronically to the docket listed above.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Gail Jones, Defense Media Activity, Privacy Officer, 6700 Taylor Avenue, Fort Meade, MD 20755-2253, or by phone at (301) 222-6040.

SUPPLEMENTARY INFORMATION:

I. Background

This modification incorporates the AFN Now platform, the new AFN OTT service, into the document and codifies the audience member authentication requirement for both the AFN Connect and AFN Now platforms. This change will authorize AFN to extend eligibility authentication procedures and processes to both fielded platforms. If the change is not implemented the AFN Now OTT service cannot operate as there would be no means to verify the eligibility of the individuals attempting to access the content residing on the platform. Subject to public comment, the DoD proposes to update this SORN to add the standard DoD routine uses (routine uses A through J) and to allow for additional disclosures outside DoD related to the purpose of this system of records. Additionally, the following sections of this SORN are being modified as follows: (1) System Name in order to combine AFNConnect and AFN Now under one system of records notice (SORN); (2) System Location to add a phone number and to account for one system location; (3) Purpose of the System to improve clarity; (4) Categories of Individuals Covered by the System and Categories of Records to clarify how the records relate to the revised Category of Individuals; (5) Record Source Categories to improve clarity; (6) Routine Uses to align with DoD's standard routine uses; (7) Policies and Practices for Storage of Records to improve clarity; (8) Administrative, Technical, and Physical Safeguards to update the individual safeguards protecting the personal information; and (9) Record Access, Notification, and Contesting Record Procedures, to reflect the need for individuals to identify the appropriate DoD office or component to which their request should be directed and to update the appropriate citation for contesting records. Furthermore, this notice includes non-substantive changes to simplify the formatting and text of the previously published notice.

DoD SORNs have been published in the Federal Register and are available from the address in FOR FURTHER INFORMATION CONTACT or at the Office of the Assistant to the Secretary of Defense for Privacy, Civil Liberties, and Transparency (OATSD(PCLT)) Privacy, Civil Liberties, and FOIA Directorate website at https://dpcld.defense.gov/privacy.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, OATSD(PCLT) has provided a report of this system of records to the OMB and to Congress.

Dated: January 25, 2022.
Kayyonne T. Marston,
Alternate OSD Federal Register Liaison Officer, Department of Defense.

SYSTEM NAME AND NUMBER:

AFNConnect (AFNC) and AFN Now, DPA 02.

SECURITY CLASSIFICATION:

Unclassified.

SYSTEM LOCATION:

A. Defense Media Activity Riverside, 23755 Z Street, Riverside, CA 92518-2077.

B. Verizon, 22001 Loudoun County Parkway, Ashburn, VA 20147-6105.

SYSTEM MANAGER(S):

Director, Media Production Line of Business, Defense Media Activity, 6700 Taylor Avenue, Fort Meade, MD 20755-7061, telephone number: (301) 222-6526.

AUTHORITY FOR MAINTENANCE OF THE SYSTEM:

10 U.S.C 113, Secretary of Defense; DoD Directive (DoDD) 5122.05, Assistant to The Secretary of Defense for Public Affairs (ATSD (PA)); DoDD 5105.74, Defense Media Activity (DMA); and DoD Instruction 5120.20, American Forces Radio and Television Service (AFRTS).

PURPOSE(S) OF THE SYSTEM:

A. To document the eligibility and continued validation of authorized individuals who register an American Forces Network (AFN)-capable satellite decoder and/or access to AFN online media services, for example the AFN Over the Top (OTT) Live Streaming and Video on Demand (VOD) Services via the AFN Now platform.

B. Provide U.S. military commanders worldwide with a means to communicate internal information to DoD audiences stationed outside of the United States, its territories or possessions.

C. Records may also be used as a management tool for statistical analysis, tracking, reporting, evaluating program effectiveness, and conducting research.

CATEGORIES OF INDIVIDUALS COVERED BY THE SYSTEM:

A. Eligible United States military personnel, Department of Defense (DoD) civilian employees, DoD contractors, and full-time direct-hire American citizen United States Government (USG) employees, excluding contractors, serving in direct support of the Chief of Mission at American diplomatic missions outside of the United States, its territories or possessions and their immediate family members operating an AFN satellite decoder and/or accessing AFN online media services.

B. Non-DoD-affiliated American citizen USG employees serving at American diplomatic posts overseas.

CATEGORIES OF RECORDS IN THE SYSTEM:

Name, DoD ID number, home mailing address, date of birth, address, email, phone, and other contact information for work and home locations, gender, marital status, spouse information, child information, branch of service, unit identification code (UIC), disability information, rank/grade, military status and unique device identification numbers, i.e., decoder serial numbers, employment information.

RECORD SOURCE CATEGORIES:

Individual, Defense Enrollment Eligibility Reporting System (DEERS), and other personnel data systems maintained by the General Services Administration or the U.S. Office of Personnel Management and used to verify eligibility for non-DoD personnel.

ROUTINE USES OF RECORDS MAINTAINED IN THE SYSTEM, INCLUDING CATEGORIES OF USERS AND PURPOSES OF SUCH USES:

In addition to those disclosures generally permitted under 5 U.S.C. 552a(b) of the Privacy Act of 1974, as amended, the records contained herein may specifically be disclosed outside the DoD as a routine use pursuant to 5 U.S.C. 552a(b)(3) as follows:

A. To contractors, grantees, experts, consultants, students, and others performing or working on a contract, service, grant, cooperative agreement, or other assignment for the Federal Government when necessary to accomplish an agency function related to this system of records.

B. To the appropriate Federal, State, local, territorial, tribal, foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To another Federal, State or local agency for the purpose of comparing to the agency's system of records or to non-Federal records, in coordination with an Office of Inspector General in conducting an audit, investigation, inspection, evaluation, or some other review as authorized by the Inspector General Act.

J. To such recipients and under such circumstances and procedures as are mandated by Federal statute or treaty.

K. To the Department of State to verify authorized personnel's use of an AFN satellite decoder and/or AFN online media services.

POLICIES AND PRACTICES FOR STORAGE OF RECORDS:

Electronic storage media. Electronic records may be stored in agency-owned cloud environments or in vendor Cloud Service Offerings certified under the Federal Risk and Authorization Management Program (FedRAMP).

POLICIES AND PRACTICES FOR RETRIEVAL OF RECORDS:

Records are retrieved by various combinations of first and last name, email address, location (duty station address/residence, country and locality), date of birth, and/or decoder serial number, DoD ID number, branch of service, and category of individual (Military, DoD Civilian, Department of State Civilian, Retiree, or Family Member).

POLICIES AND PRACTICES FOR RETENTION AND DISPOSAL OF RECORDS:

Temporary. Cutoff after system is superseded by a new iteration, or is terminated, defunded or when, no longer needed for administrative, legal, audit or other operational purposes. Destroy 5 years after cutoff.

ADMINISTRATIVE, TECHNICAL, AND PHYSICAL SAFEGUARDS:

Administrative control measures are off-site secured backups, which are encrypted and accessible only by authorized individuals with a valid `need to know' and regular monitoring of users' security practices. Physical control measures are security guards, identification badges, key cards, cipher locks, closed-circuit television. Technical control measures are user identification, password, intrusion detection system, external certificate authority certificate, firewall, virtual private network, DoD public key infrastructure certificates, common access card, biometrics, encryption of data at rest and in transit, role-based access controls, intrusion detection system, used only for privileged (elevated roles), least privilege access.

RECORD ACCESS PROCEDURES:

Individuals seeking access to their records should follow the procedures in 32 CFR part 310. Individuals should address written inquiries to the Office of the Secretary of Defense/Joint Staff Freedom of Information Act Requester Service Center, 1155 Defense Pentagon, Washington, DC 20301-1155. Signed, written requests should contain first and last name, home address, phone number, DoD ID Number, and/or employee ID number, for positive identification of requester and the name and number of this system of records notice. In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents, and appealing initial agency determinations are contained in 32 CFR part 310.

NOTIFICATION PROCEDURES:

Individuals seeking to determine whether information about themselves is contained in this system of records should follow the instructions for Record Access Procedures above.

EXEMPTIONS PROMULGATED FOR THE SYSTEM:

None.

HISTORY:

June 06, 2016, 81 FR 36279; October 27, 2015, 80 FR 65722.

[FR Doc. 2022-01780 Filed 1-27-22; 8:45 am]

BILLING CODE 5001-06-P